NATIONAL ARCHIVES AND RECORDS ADMINISTRATION

Agency Information Collection Activities: Submission for OMB Review; Comment Request

AGENCY: National Archives and Records Administration (NARA).

ACTION: Notice.

SUMMARY: NARA is giving public notice that the agency has submitted to OMB for approval the information collections described in this notice. The public is invited to comment on the proposed information collections pursuant to the Paperwork Reduction Act of 1995.

DATES: Written comments must be submitted to OMB at the address below on or before December 22, 2000 to be assured of consideration.

ADDRESSES: Comments should be sent to: Office of Information and Regulatory Affairs, Office of Management and Budget, Attn: Ms. Brook Dickson, Desk Officer for NARA, Washington, DC 20503.

FOR FURTHER INFORMATION CONTACT: Requests for additional information or copies of the proposed information collections and supporting statements should be directed to Tamee Fechhelm at telephone number 301-713-6730 or fax number 301-713-6913.

SUPPLEMENTARY INFORMATION: Pursuant to the Paperwork Reduction Act of 1995 (Public Law 104-13), NARA invites the general public and other Federal agencies to comment on proposed information collections. NARA published a notice of proposed collection for this information collection on September 13, 2000 (65 FR 55304 and 55305). No comments were received. NARA has submitted the described information collection to OMB for approval.

In response to this notice, comments and suggestions should address one or more of the following points: (a) Whether the proposed collection informations are necessary for the proper performance of the functions of NARA; (b) the accuracy of NARA's estimate of the burden of the proposed information collections; (c) ways to enhance the quality, utility, and clarity of the information to be collected; and (d) ways to minimize the burden of the collection of information on respondents, including the use of information technology. In this notice, NARA is soliciting comments concerning the following information collection:

1. Title: Customer Comment Form.

OMB number: 3095-0007.

Agency form number: NA Form 14045.

Type of review: Regular.

Affected public: Individuals.

Estimated number of respondents: 1,925.

Estimated time per response: 5 minutes.

Frequency of response: On occasion.

Estimated total annual burden hours: 160 hours.

Abstract: The information collection is a customer comment form made available to persons who use NARA services or visit NARA museums. The form is voluntary and is used to record comments, complaints, and suggestions from NARA customers. NARA uses the information to correct problems and improve service.

2. Title: NHPRC Subvention Grant Guidelines and Application.

OMB number: 3095-0021.

Agency form number: N/A.

Type of review: Regular.

Affected public: Universities and non-profit presses.

Estimated number of respondents: 18.

Estimated time per response: 6 hours.

Frequency of response: On occasion. On the average, a press submits two subvention applications per year.

Estimated total annual burden hours: 216 hours.

Abstract: The information collection is prescribed by 36 CFR 1206. The application is submitted by university and other non-profit presses applying to the NHPRC grant program for subvention of part of the costs of manufacturing and distributing volumes published by NHPRC-supported editorial projects.

3. Title: NHPRC Annual Sales Reports for Subvention Grants.

OMB number: 3095-0022.

Agency form number: None.

Type of review: Regular.

Affected public: Non-profit presses that have received an NHPRC subvention grant.

Estimated number of respondents: 18.

Estimated time per response: 1 hour.

Frequency of response: One time only. On the average, a press has two on-going subvention grants and therefore submits two sales reports per year.

Estimated total annual burden hours: 36 hours.

Abstract: The information collection is prescribed by 36 CFR 1206. The sales information provided by non-profit presses is used by Commission staff to gauge interest among scholars and the general public in documentary editions supported by Commission grants.

Dated: November 15, 2000.
L. Reynolds Cahoon,
Assistant Archivist for Human Resources and Information Services.

[FR Doc. 00-29872 Filed 11-21-00; 8:45 am]

BILLING CODE 7515-01-P